DEPARTMENT OF COMMERCE

Foreign-Trade Zones Board

[B-16-2015]

Authorization of Production Activity; Foreign-Trade Subzone 37D; Xylem Water Systems USA LLC; (Centrifugal and Submersible Pumps) Auburn, New York

On March 23, 2015, Xylem Water Systems USA LLC, operator of Subzone 37D, submitted a notification of proposed production activity to the Foreign-Trade Zones (FTZ) Board for its facility located in Auburn, New York.

The notification was processed in accordance with the regulations of the FTZ Board (15 CFR part 400), including notice in the Federal Register inviting public comment (80 FR 17033-17034, 3-31-2015). The FTZ Board has determined that no further review of the activity is warranted at this time. The production activity described in the notification is authorized, subject to the FTZ Act and the FTZ Board's regulations, including Section 400.14.

Dated: July 23, 2015.
Andrew McGilvray,
Executive Secretary.

[FR Doc. 2015-18451 Filed 7-27-15; 8:45 am]

BILLING CODE 3510-DS-P